DEPARTMENT OF JUSTICE

Parole Commission

Sunshine Act Meeting

TIME AND DATE: 11:00 a.m., Wednesday, July 25, 2018.

PLACE: U.S. Parole Commission, 90 K Street NE, 3rd Floor, Washington, DC.

STATUS: Closed.

MATTERS TO BE CONSIDERED: Determination on FIVE original jurisdiction cases.

CONTACT PERSON FOR MORE INFORMATION: Jacqueline Graham, Staff Assistant to the Chairman, U.S. Parole Commission, 90 K Street NE, 3rd Floor, Washington, DC 20530, (202) 346-7001.

Dated: July 16, 2018.
J. Patricia Wilson Smoot,
Chairperson, U.S. Parole Commission.

[FR Doc. 2018-15540 Filed 7-17-18; 4:15 pm]

BILLING CODE 4410-31-P